DEPARTMENT OF COMMERCE

National Oceanic and Atmospheric Administration

Notice of a Public Meeting Regarding a Permit Application To Construct an Artificial Reef Within the Florida Keys National Marine Sanctuary

AGENCY: National Marine Sanctuary Program (NMSP), National Ocean Service (NOS), National Oceanic and Atmospheric Administration (NOAA), Commerce.

ACTION: Notice of public meeting; request for public comments.

SUMMARY: NOAA announces a public meeting and a request for public comments about its receipt of a permit application to construct an artificial reef within the Florida Keys National Marine Sanctuary (FKNMS) and of its intent to prepare an environmental analysis of the project pursuant to the National Environmental Policy Act (NEPA). The City of Key West has requested permission to sink the vessel USS Hoyt Vandenberg within the boundaries of the FKNMS for purposes of establishing an artificial reef. The NMSP is soliciting comments from the public regarding this proposal and to identify any associated issues.

DATES: A public meeting will be held at the Nancy Foster Center, Truman Annex, Key West, Florida from 6:30 p.m. to 8 p.m. on Thursday, March 4, 2004.

Written comments must be received on or before March 19, 2004.

ADDRESSES: Submit comments to Billy Causey, FKNMS Superintendent (Vandenberg Project Review), P.O. Box 500368, Marathon, Florida 33050.

Copies of the application materials may be obtained by writing to the above address, or by contacting the individual listed in FOR FURTHER INFORMATION CONTACT. Relevant information may also be downloaded from the NMSP Web site. at http://www.sanctuaries.nos.noaa.gov/library/library.html.

For directions to the public meeting contact the individual listed in FOR FURTHER INFORMATION CONTACT.

FOR FURTHER INFORMATION CONTACT: Billy Causey, FKNMS Superintendent at (305) 743-2437 x26 or by e-mail at Billy.Causey@noaa.gov.

SUPPLEMENTARY INFORMATION: The FKNMS Superintendent has received a proposal and permit application from the City of Key West, submitted by their agents Resource Control Corporation and Artificial Reefs of the Keys Inc., to place the USS Hoyt Vandenberg on the seafloor of the FKNMS for the purpose of establishing an artificial reef. The City of Key West and its agents are hereafter referred to as “the applicant.”

Project Description

The applicant proposes to place the USS Hoyt Vandenberg on a portion of the seafloor characterized by sand and rubble in approximately 140-feet of water south of Key West, Florida. The following coordinates denote the corners of the area within which the applicant proposes to establish the artificial reef:

(NE) Lat.—24 deg. 27.70′ N; Lon.—81 deg. 44.15′ W

(SE) Lat.—24 deg. 27.50′ N; Lon.—81 deg. 44.15′ W

(SW) Lat.—24 deg. 27.50′ N; Lon.—81 deg. 44.35′ W

(NW) Lat.—24 deg. 27.70′ N; Lon.—81 deg. 44.35′ W

The USS Hoyt Vandenberg, a former troop transport, is approximately 520-feet in length, with a 71-foot beam, and with a final vertical height of 100 feet. A stability analysis conducted for the applicant suggests the vessel will be stable in any orientation at the proposed depth during a 100-year storm event that would produce a wave height of 33-feet.

The United States Army Corps of Engineers and Florida Department of Environmental Protection issued permits for the proposed project in April 2001 and August 2000, respectively. The vessel would be released from the James River Reserve Fleet, Eustis, Virginia, to the State of Florida before being turned over to the City of Key West.

National Environmental Policy Act Analyses

The NMSP has made an initial determination that the issuance of a permit for this activity would not be categorically excluded from the requirement to prepare an environmental assessment (EA) pursuant to NEPA. Therefore, the NMSP will prepare an EA pursuant to NEPA, the CEQ implementing regulations (40 CFR parts 1500 through 1508), and NOAA's implementing guidelines on NEPA codified in NOAA Administration Order 216-6. However, if the EA process does not result in NMSP making a “finding of no significant impact,” NMSP will subsequently prepare an environmental impact statement.

Comments

NMSP would like public comments on the following:

1. Comments about the scope of issues that should be evaluated in a NEPA document concerning this proposal;

2. Comments regarding the expected impacts of this artificial reef project on the marine environment of the FKNMS and the overall significance of those impact;

3. Recommendations on mitigation measures and permit conditions that would eliminate or minimize any impacts of this project on the FKNMS or the environment generally should the permit be issued; and

4. Recommendations for specific monitoring programs or plans that would allow the NMSP to know the benefits (or lack thereof) of the project to FKNMS management, the impacts of the project on FKNMS resources, and the stability of the vessel.

Dated: February 12, 2004.
Jamison S. Hawkins,
Deputy Assistant Administrator, Ocean Services and Coastal Zone Management, National Oceanic and Atmospheric Administration.

[FR Doc. 04-3575 Filed 2-17-04; 8:45 am]

BILLING CODE 3510-NK-M